DEPARTMENT OF THE INTERIOR

Bureau of Indian Affairs

25 CFR Part 226

Osage Negotiated Rulemaking Committee

AGENCY: Bureau of Indian Affairs, Interior

ACTION: Notice of public meeting cancellation

SUMMARY: In accordance with the requirements of the Federal Advisory Committee Act, 5 U.S.C. Appendix 2, the U.S. Department of the Interior, Bureau of Indian Affairs, Osage Negotiated Rulemaking Committee has cancelled the December 13-14, 2012 meeting.

DATES: The meetings were originally scheduled for Thursday, December 13, 2012, and Friday, December 14, 2012, from 9 a.m. to 6 p.m. at the Wah Zha Zhi Cultural Center, 1449 W. Main, Pawhuska, Oklahoma 74056. A new meeting date and location will be announced later.

FOR FURTHER INFORMATION CONTACT: Mr. Eddie Streater, Designated Federal Officer, Bureau of Indian Affairs, Wewoka Agency, P.O. Box 1540, Seminole, OK 74818; telephone (405) 257-6250; fax (405) 257-3875; or email osageregneg@bia.gov. Additional Committee information can be found at: http://www.bia.gov/osageregneg.

SUPPLEMENTARY INFORMATION: On October 14, 2011, the United States and the Osage Nation (formerly known as the Osage Tribe) signed a Settlement Agreement to resolve litigation regarding alleged mismanagement of the Osage Nation's oil and gas mineral estate, among other claims. As part of the Settlement Agreement, the parties agreed that it would be mutually beneficial “to address means of improving the trust management of the Osage Mineral Estate, the Osage Tribal Trust Account, and Other Osage Accounts.” Settlement Agreement, Paragraph 1.i. The parties agreed that a review and revision of the existing regulations is warranted to better assist the Bureau of Indian Affairs (BIA) in managing the Osage Mineral Estate. The parties agreed to engage in a negotiated rulemaking for this purpose. Settlement Agreement, Paragraph 9.b. After the Committee submits its report, BIA will develop a proposed rule to be published in the Federal Register.

Dated: November 21, 2012.
Michael S. Black,
Director, Bureau of Indian Affairs.

[FR Doc. 2012-28806 Filed 11-27-12; 8:45 am]

BILLING CODE 4310-02-P